DEPARTMENT OF TRANSPORTATION

Federal Aviation Administration

First Meeting, RTCA/PMC New Special Committee 219: Attitude and Heading Reference Systems (AHRS)

AGENCY: Federal Aviation Administration (FAA), DOT.

ACTION: Notice of RTCA Special Committee 219 meeting: Attitude and Heading Reference.

SUMMARY: The FAA is issuing this notice to advise the public of a meeting of RTCA Special Committee 219 meeting: Attitude and Heading Reference Systems (AHRS).

DATES: The meeting will be held on September 16-17, 2007, from 9 a.m. to 5 p.m.

ADDRESSES: The meeting will be held at 1828 L Street, NW., Suite 805, MacIntosh NBAA and Hilton-ATA Rooms, Washington, DC 20036.

FOR FURTHER INFORMATION CONTACT: RTCA Secretariat, 1828 L Street, NW., Suite 805, Washington, DC, 20036-5 133; telephone (202) 833-9339; fax (202) 833-9434; Web site http://www.rtca.org.

SUPPLEMENTARY INFORMATION: Pursuant to section 10(a)(2) of the Federal Advisory Committee Act (Pub. L. 92-463, 5 U.S.C., appendix 2), notice is hereby given for a Special Committee 219 meeting. The agenda will include:

• September 16-17:

• Opening Session (Welcome, Introductions and Administrative Remarks).

• Agenda Overview.

• RCTA Functional Overview.

• Review Current Guidance/Technical Standard Orders—Discussion.

• Committee Scope—Terms of Reference.

• Organization of Work, Assign Tasks and Workgroups. Presentation, Discussion, Recommendations, Assignment of Responsibilities.

• Establish Dates, Location and Agenda for Next Meeting.

• Closing Session (Any Other Business, Assignment/Review of Future Work, Establish Agenda, Date and Place of Next Meeting, Closing Remarks, Adjourn). Attendance is open to the interested public but limited by space availability. With the approval of the chairmen, members of the public may present oral statements at the meeting. Persons wishing to present statements or obtain information should contact the person listed in the FOR FURTHER INFORMATION CONTACT section. Members of the public may present a written statement to the committee at any time.

Issued in Washington, DC, on August 22, 2008.
Francisco Estrada C.,
RTCA Advisory Committee.

[FR Doc. E8-19896 Filed 8-27-08; 8:45 am]

BILLING CODE 4910-13-M